DEPARTMENT OF EDUCATION

Open Meeting of the President's Board of Advisors on Tribal Colleges and Universities

AGENCY: White House Initiative on Tribal Colleges and Universities (WHITCU)—U.S. Department of Education.

ACTION: Notice of President's Board of Advisors on Tribal Colleges and Universities (Board) meeting.

SUMMARY: This notice sets forth the schedule and proposed agenda of an upcoming open meeting of the Board and is intended to notify the general public of their opportunity to attend. This notice also describes the functions of the Board. Notice of the Board's meetings is required under Section 10(a)(2) of the Federal Advisory Committee Act and by the Board's charter.

Agenda: The purpose of the meeting will be to investigate ways the federal government can help tribal colleges use long-term development, endowment building and planning to strengthen institutional viability through private sector funding support. In addition, the Board will review and make a first assessment of the annual reports submitted by federal departments and agencies to the WHITCU as required by Executive Order 13270. Other topics include further enhancing the Board's strategic plan including identifying ways to expand and complement federal education initiatives; employing new and emerging technologies; augmenting resources to ultimately impact the recruitment and retention of students and faculty; and, assisting in implementing the No Child Left Behind Act of 2001 and meeting other high standards of educational achievement within the nation's tribal colleges and universities.

DATES: June 10, 2005, 9 a.m. to 5 p.m. and June 11, 2005, 9 a.m. to 12 noon.

Location: Radisson Hotel & Conference Center Green Bay, 2040 Airport Drive, Green Bay, Wisconsin 54313.

FOR FURTHER INFORMATION CONTACT: Diane L. Cullo, Executive Director, WHITCU, 1990 K Street, NW., Room 7007, Washington, DC 20006. Telephone: (202) 219-7025. Fax: (202) 219-7086.

SUPPLEMENTARY INFORMATION: Presidential Executive Order 13270 on July 3, 2002 established The Board. The Board provides recommendations to the President of the United States through the Secretary of Education on ways the Federal government can help tribal colleges: (1) Use long-term development, endowment building and planning to strengthen institutional viability; (2) improve financial management and security, obtain private sector funding support, and expand and complement federal education initiatives; (3) develop institutional capacity through the use of new and emerging technologies offered by both the federal and private sectors; (4) enhance physical infrastructure to facilitate more efficient operation and effective recruitment and retention of students and faculty; and (5) help implement the No Child Left Behind Act of 2001 and meet other high standards of educational achievement. In addition, the Board also monitors the progress made by federal agencies in fulfilling their obligation to the Executive Order.

The general public is welcome to attend the June 10-11, 2005 open meeting, however, space is limited and is available on a first-come, first-served basis. Individuals who need special accommodations for a disability in order to attend the meeting (i.e. interpreting services, assistive listening devices, materials in alternative format) should notify Betty Thompson at (202) 219-7040 no later than June 1, 2005. Every attempt to meet requests after this date will be made but cannot be guaranteed. The meeting site is accessible to individuals with disabilities. A summary of the activities of the meeting and other related materials that are informative to the public will be available within 90 days after the meeting. Records are kept of all Board proceedings and are available for public inspection at the WHITCU, 1990 K Street, NW., Room 7007, Washington, DC 20006. Telephone: (202) 219-7025. Fax: (202) 219-7086.

Dated: May 25, 2005.
Margaret Spellings,
Secretary, U.S. Department of Education.

[FR Doc. 05-10743 Filed 5-27-05; 8:45 am]

BILLING CODE 4000-01-M